DEPARTMENT OF DEFENSE

Office of the Secretary

Veterans' Advisory Board on Dose Reconstruction

AGENCY: Department of Defense, Defense Threat Reduction Agency.

ACTION: Notice; Defense Threat Reduction Agency Veterans' Advisory Board on Dose Reconstruction Meeting.

SUMMARY: The Defense Threat Reduction Agency (DTRA) and the Department of Veterans Affairs (VA) will hold the first public meeting of the Veterans' Advisory Board on Dose Reconstruction (VBDR). The goal of the VBDR is to provide guidance and oversight of the dose reconstruction and claims compensation programs for atomic veterans. In addition, the advisory board will assist the VA and DTRA in communicating with the veterans.

DATES: Wednesday, August 17, 2005 (12:30 to 5 p.m., break for dinner: 5-7 p.m., public comment session 7-10 p.m.) and Thursday, August 18, 2005 (8:30 a.m. to 12:15 p.m. and 1:45-2:45 p.m., break for lunch 12:15-1:45, public comment session 2:45-4:45 p.m.)

ADDRESSES: Hyatt Regency, 211 North Tampa Street, Tampa, FL 33602.

FOR FURTHER INFORMATION CONTACT: The Veterans' Advisory Board on Dose Reconstruction hotline at 1-866-657-VBDR (8237).

SUPPLEMENTARY INFORMATION: The VBDR was established at the recommendation of the National Research Council report, entitled “Review of the Dose Reconstruction Program of the Defense Threat Reduction Agency.” The report recommended the need to establish an advisory board which will provide suggestions for improvements in dose reconstruction and claim adjudication procedures.

Radiation dose reconstruction has been carried out by the Department of Defense under the Nuclear Test Personnel Review (NTPR) program since the 1970s. DTRA is the executive agent for the NTPR program which provides participation data and actual or estimated radiation dose information to veterans and the VA.

Board members were selected to fulfill the statutory requirements mandated by Congress in Section 601 of Pub. L. 108-183. The Board was appointed on June 3, 2005, and is comprised of 16 members. Board members were selected to provide expertise in historical dose reconstruction, radiation health matters, risk communications, radiation epidemiology, medicine, quality management, decision analysis and ethics in order to appropriately enable the VBDR to represent and address veterans' concerns.

The Board is governed by the provisions of the Federal Advisory Committee Act (FACA), PL 92-463, which sets forth stands for the formation and conduct of government advisory committees.

Additional information may be found at http://vbdr.org.

Dated: July 1, 2005.
Jeannette Owings-Ballard,
OSD Federal Register Liaison Officer, Department of Defense.

[FR Doc. 05-13471 Filed 7-7-05; 8:45 am]

BILLING CODE 5001-06-P